CONSUMER PRODUCT SAFETY COMMISSION

[Docket No. CPSC-2010-0080]

Children's Products Containing Lead; Technological Feasibility of 100 ppm for Lead Content; Notice of Public Hearing

AGENCY: Consumer Product Safety Commission.

ACTION: Notice of public hearing.

SUMMARY: Section 101(a) of the Consumer Product Safety Improvement Act (“CPSIA”) provides that, as of August 14, 2011, children's products may not contain more than 100 parts per million (“ppm”) of lead unless the Consumer Product Safety Commission (“CPSC,” “Commission,” or “we”) determines that such a limit is not technologically feasible. The Commission may make such a determination only after notice and a hearing and after analyzing the public health protections associated with substantially reducing lead in children's products. Through this notice, the Commission is announcing that it will conduct a public hearing to receive views from all interested parties about the technological feasibility of meeting the 100 ppm lead content limit for children's products and associated public health considerations.

DATES: The public hearing will begin at 10 a.m. EST on February 16, 2011, and conclude the same day.

ADDRESSES: The public hearing will be held in the Hearing Room, 4th Floor of the Bethesda Towers Building, 4330 East West Highway, Bethesda, MD 20814.

Online Registration and Webcast: Members of the public who wish to attend the public hearing are requested to preregister online at http://www.cpsc.gov/meetingsignup.html. You may register until 5 p.m. EST on February 15, 2011. This public hearing also will be available live via webcast on February 16, 2011, at http://www.cpsc.gov/webcast. Registration is not necessary to view the webcast. A transcript will be made of the proceedings of the public hearing.

Oral Presentations and Written Comments: To make oral presentations, participants must preregister online. Presenters must also submit a request to make an oral presentation, and the written text of such comments captioned “100 PPM—Technological Feasibility Public Hearing” by electronic mail (email) to cpsc-os@cpsc.gov, or mailed or delivered to the Office of the Secretary, Consumer Product Safety Commission, 4330 East West Highway, Bethesda, MD 20814, no later than 5 p.m. EST on February 10, 2011. Commenters should limit their presentations to approximately 15 minutes, exclusive of any periods of questioning by the Commissioners or CPSC staff. We may limit further the time for any presentation and impose restrictions to avoid excessive duplication of presentations.

Participants who are unable to make an oral presentation may submit written comments regarding the issues outlined under Supplementary Information captioned “100 PPM—Technological Feasibility Public Hearing” by electronic mail (email) to cpsc-os@cpsc.gov, or mailed or delivered to the Office of the Secretary, Consumer Product Safety Commission, 4330 East West Highway, Bethesda, MD 20814, no later than 5 p.m. EST on February 10, 2011.

Any information submitted in writing and orally to the CPSC at the public hearing will become part of the public record.

FOR FURTHER INFORMATION CONTACT: Concerning requests and procedures for oral presentations of comments: Rockelle Hammond, Consumer Product Safety Commission, Bethesda, MD 20814; telephone: (301) 504-6833; email: cpscos@cpsc.gov. For all other matters: Dominique Williams, Consumer Product Safety Commission, Bethesda, MD 20814; telephone: (301) 504-7597; e-mail: dwilliams@cpsc.gov.

SUPPLEMENTARY INFORMATION: Section 101(a)(2)(C) of the CPSIA (15 U.S.C. 1278a(a)(2)(C)) provides that, as of August 14, 2011, children's products may not contain more than 100 parts per million (ppm) of lead unless the Commission determines that such a limit is not technologically feasible. The Commission may make this determination only after notice and a hearing and after analyzing the public health protections associated with substantially reducing lead in children's products. Section 101(d) of the CPSIA (15 U.S.C. 1278a(d)) provides that a lead limit shall be deemed technologically feasible with regard to a product or product category if:

(1) A product that complies with the limit is commercially available in the product category;

(2) Technology to comply with the limit is commercially available to manufacturers or is otherwise available within the common meaning of the term;

(3) Industrial strategies or devices have been developed that are capable or will be capable of achieving such a limit by the effective date of the limit and that companies, acting in good faith, are generally capable of adopting; or

(4) Alternative practices, best practices, or other operational changes would allow the manufacturer to comply with the limit.

If the Commission determines that the 100 ppm lead content limit is not technologically feasible for a product or product category, section 101(a)(2)(D) of the CPSIA requires the Commission, by regulation, to establish the lowest amount below 300 ppm that it determines is technologically feasible. On July 27, 2010, we published a notice in the Federal Register (75 FR 43942) requesting comments and information regarding the technological feasibility for manufacturers to meet the 100 ppm lead content limits. We received comments from consumer groups, manufacturers, retailers, associations, and laboratories regarding the technological feasibility of meeting the 100 ppm lead content limit. A number of commenters stated that some classes of materials will have difficulty meeting the 100 ppm lead content limit, including metal components and some glass and ceramic components. According to the commenters, source materials, including recycled materials for metal alloys, cannot comply consistently due to the variability of the materials. A few commenters contended that other materials, such as plastics, could comply if only virgin plastics are used.

However, some commenters stated that for all materials, there is significant variability among test results, even for identical products, due to variations in testing methodology and procedures, and that inter- and intra-laboratory variability must be addressed. Several commenters also stated that there are no demonstrable health benefits of reducing lead limits from 300 ppm to 100 ppm in light of the relative inaccessibility of lead that is bound in plastic or metal. Other commenters stated that there are children's products in the market now that meet the 100 ppm lead content limits, and that it is not only possible, but also essential for the public health, to reduce lead in consumer products—particularly children's products—to the lowest levels that are technologically feasible. We are still reviewing the comments and will consider them along with the additional information presented at the hearing.

Participants should not resubmit their comments, which were submitted in response to the July 27, 2010 notice. The Commission is seeking new or additional information that specifically addresses the issues outlined below in the public hearing that were not addressed in the earlier comments:

(1) Please identify any product or product category that already complies with the 100 ppm limit and describe the extent to which such product(s) or product categories are commercially available in the United States. We are interested especially in:

(a) Metal components in children's products, how such metal components are sourced or obtained, and the extent to which lead is found in metals alloys even when it is not introduced intentionally;

(b) Plastic and non-metal materials in children's products, how such plastic and non-metal materials are sourced or obtained, and the extent to which lead is found in such materials even when it is not introduced intentionally;

(c) Glass and ceramic materials in children's products, how such glass and ceramic materials are sourced or obtained, and the extent to which lead is found in such materials even when it is not introduced intentionally; and

(d) What factors or considerations should we evaluate in deciding whether a product complying with the limit is “commercially available?”

(2) What technologies exist that would enable manufacturers to comply with the 100 ppm limit? In responding to this question, please describe the technology or technologies and the product or product category that would benefit.

(a) Please describe the extent to which the technology or technologies is commercially available or otherwise available to manufacturers.

(b) Section 101(d)(2) of the CPSIA states that the technology to comply with the limit is “commercially available to manufacturers or is otherwise available within the common meaning of the term.” What factors or considerations should we evaluate in deciding whether a technology is “commercially available” or “otherwise available within the common meaning of the term?”

(3) What industrial strategies or devices have been developed that are capable or will be capable of achieving a lead limit of 100 ppm by August, 2011?

(a) What barriers, if any, exist to prevent a company from adopting such an industrial strategy or device to achieve the desired limit?

(b) How might CPSC determine whether companies are acting in “good faith” as to their capabilities in adopting a particular industrial strategy or device?

(4) What alternative practices, best practices, or other operational changes exist that would allow the manufacturer to comply with the 100 ppm lead limit? What factors or considerations might encourage or deter manufacturers from adopting such practices or operational changes?

(5) What data on inter- and intra-laboratory variability and inter- and intra-lot variability exists? In responding to this question, it would be very helpful if the basis for such variability can be explained. For example, the sensitivity of a particular piece of laboratory equipment or the use of a particular test method might lead to some variation in results.

(6) What health effects are associated with a reduction of the lead content limit from 300 ppm to 100 ppm? From 300 ppm to some other level above 100 ppm? In responding to these questions, published scientific or medical articles will be helpful.

Any information submitted in writing and orally to the CPSC at the public hearing will become part of the public record. The public hearing will begin at 10 a.m. EST on February 16, 2011, and will conclude the same day. This public hearing will also be available live via webcast on February 16, 2011, at http://www.cpsc.gov/webcast. Requests to present oral comments must be submitted to the Office of the Secretary no later than 5 p.m. EST on February 10, 2011. Written comments, or a written copy of the text of the oral comments, must be received no later than 5 p.m. EST on February 10, 2011. Commenters should limit their presentations to approximately 15 minutes, exclusive of any periods of questioning by the Commissioners or the CPSC staff. We may limit further the time for any presentation and impose restrictions to avoid excessive duplication of presentations. A transcript will be made of the proceedings of the public hearing. Access to the docket to read background documents, including a transcript of the public meeting, or comments received, will be made available at http://www.regulations.gov under Docket No. CPSC-2010-0080.

Dated: January 21, 2011.
Todd A. Stevenson,
Secretary, Consumer Product Safety Commission.

[FR Doc. 2011-1658 Filed 1-25-11; 8:45 am]

BILLING CODE 6355-01-P